DEPARTMENT OF TRANSPORTATION

Federal Aviation Administration

Office of Commercial Space Transportation; Notice of Availability of the Environmental Assessment and Finding of No Significant Impact for Pegasus Launches at the U.S. Army Kwajalein Atoll Ronald Reagan Ballistic Missile Defense Test Site

AGENCY: The Federal Aviation Administration (FAA), lead agency; U.S. Army, cooperating agency.

ACTION: Notice of availability.

SUMMARY: In accordance with the National Environmental Policy Act of 1969, as amended (NEPA) (42 U.S.C. 4321 et seq.), Council on Environmental Quality NEPA implementing regulations (40 CFR Parts 1500-1508), and FAA Order 1050.1E, Change 1, the FAA is announcing the availability of the Environmental Assessment (EA) and Finding of No Significant Impact (FONSI) for Pegasus Launches at the U.S. Army Kwajalein Atoll Ronald Reagan Ballistic Missile Defense Test Site (USAKA/RTS).

Orbital Sciences Corporation has applied to the FAA for renewal of Launch Operator License (LLO) 04-069. Under the Proposed Action (the preferred alternative), the FAA would renew Orbital Sciences Corporation's Launch Operator License for launch operations of the Pegasus expendable launch vehicle family. Launches would occur from USAKA/RTS in the Republic of the Marshall Islands, a subordinate command of the U.S. Army Space and Strategic Defense Command.

The Pegasus expendable launch vehicle consists of three solid rocket propellant motor stages with an optional liquid propellant-based Hydrazine Auxiliary Propulsion System (HAPS) and is designed to be carried to its launch point by an L-1011 Launch Carrier Aircraft (LCA). The L-1011 LCA, which consists of FAA-approved standard engines, uses Commercial Jet-A or Military JP4 or JP10 fuel. Pre-launch and mating activities would be performed at Vandenberg Air Force Base under LLO 00-053. A separate environmental review was conducted in conjunction with the approval of LLO 00-053. Therefore, the Proposed Action addressed in the EA does not include Pegasus pre-launch processing operations.

Once the LCA and mated launch vehicle have landed at USAKA/RTS, system checks would be conducted. The LCA would be refueled. Concurrently, an advisory to nearby ships and aircraft would be issued. The LCA and mated Pegasus vehicle would leave USAKA/RTS under jet power and travel to the launch site over the Pacific Ocean. Following the release of the Pegasus launch vehicle, the L-1011 LCA would return to a designated runway at USAKA/RTS. The first and second stages would detach during flight and fall, unpowered, to the ocean. The third stage would continue to carry the payload into orbital insertion; detach from the payload and optional HAPS (if appropriate), and fall into the ocean. None of the jettisoned stages would be recovered. The EA addresses the potential environmental impacts of implementing the Proposed Action and the No Action Alternative of not renewing Orbital Sciences' Launch Operator License.

The FAA has posted the EA and FONSI on the FAA Web site at http://ast.faa.gov. In addition, hardcopies and/or CDs of the EA and FONSI were sent to persons and agencies on the distribution list (found in Chapter 7 of the EA).

Additional Information: Under the Proposed Action (the preferred alternative), the FAA would renew Orbital Sciences' Launch Operator License for launch operations of the Pegasus expendable launch vehicle family. The L-1011 LCA with the mated Pegasus launch vehicle would travel under jet power to the launch site over the Pacific Ocean. At an altitude of 35,000 feet, the L-1011 would release the Pegasus launch vehicle and return to a designated runway at USAKA/RTS. The Pegasus vehicle would free fall for 5 seconds before the first stage motor was ignited. The first stage of the Pegasus vehicle would burn for approximately 77 seconds following ignition while propelling the vehicle to an altitude of approximately 223,000 feet. The spent first stage would detach and fall back to the ocean. The second stage motor would ignite and burn for approximately 83 seconds, carrying the vehicle and its payload to an altitude of 689,000 feet. During the ignition of the second stage, the payload fairing would jettison and fall into the ocean. The spent second stage would detach and fall to the ocean. The third stage would continue to burn for 65 seconds carrying the payload into orbital insertion; detach from payload and optional HAPS (if appropriate), and fall into the ocean. The optional HAPS fourth stage could be used in or near orbit to obtain higher altitudes, achieve finer altitude accuracy, or conduct more complex maneuvers. None of the jettisoned stages would be recovered.

The L-1011 LCA, which consists of FAA-approved standard engines, uses Commercial Jet-A or Military JP4 or JP10 fuel. Section 3.1.2.6 of the 1989 EA includes a detailed description of the Pegasus launch vehicle.

The only alternative to the Proposed Action analyzed in the EA is the No Action Alternative. Under this alternative, the FAA would not renew Orbital Sciences' Launch Operator License and there would be no commercial launches of the Pegasus launch vehicle conducted from USAKA/RTS. Existing operating procedures, military operations, and other launch activities would continue at USAKA/RTS.

Resource areas were considered to provide a context for understanding and assessing the potential environmental effects of the Proposed Action. The EA does not analyze all environmental resources areas in detail because not all resource areas are affected by the Proposed Action. The resource areas analyzed in detail in the EA included air quality; biological resources; hazardous materials, pollution prevention, and solid waste; noise; and water resources (surface water, groundwater, floodplains, and wetlands), and cumulative impacts.

FOR FURTHER INFORMATION CONTACT: Mr. Daniel Czelusniak, Environmental Specialist, Office of Commercial Space Transportation, Federal Aviation Administration, 800 Independence Avenue, SW., Suite 331, Washington, DC 20591; telephone (202) 267-5924; e-mail Daniel.Czelusniak@faa.com.

Issued in Washington, DC on July 1, 2009.
Responsible Official:
Michael McElligott,
Manager, Space Systems Development Division.

[FR Doc. E9-16127 Filed 7-7-09; 8:45 am]

BILLING CODE 4910-13-P